OFFICE OF PERSONNEL MANAGEMENT

Excepted Service

AGENCY: U.S. Office of Personnel Management (OPM).

ACTION: Notice.

SUMMARY: This notice identifies Schedule A, B, and C appointing authorities applicable to a single agency that were established or revoked from June 1, 2015, to June 30, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, one Science, Technology and Innovation Program Administrator, and one Population, Environmental Change, and Security Administrator.

Schedule B

No Schedule B Authorities to report during June 2015.

Schedule C

The following Schedule C appointing authorities were approved during June 2015.

Agency name | Organization name | Position title | Authorization No. | Effective date
DEPARTMENT OF AGRICULTURE | Office of the Secretary | Deputy White House Liaison | DA150147 | 6/9/2015
| Office of Communications | Deputy Press Secretary | DA150148 | 6/9/2015
|  | Senior Advisor for Strategic Communications | DA150151 | 6/9/2015
|  | Deputy Director | DA150157 | 6/25/2015
|  | Press Secretary | DA150158 | 6/25/2015
|  | Scheduler | DA150159 | 6/30/2015
| Office of the Under Secretary for Rural Development | Special Assistant | DA150150 | 6/9/2015
| Office of Under Secretary for Natural Resources and Environment | Senior Advisor | DA150152 | 6/11/2015
| Rural Housing Service | State Director—Massachusetts | DA150156 | 6/25/2015
DEPARTMENT OF COMMERCE | Assistant Secretary for Industry and Analysis | Senior Advisor | DC150111 | 6/1/2015
|  | Deputy Director, Office of Advisory Committees, Industry and Analysis | DC150112 | 6/4/2015
| Office of the Chief of Staff | Director of Advance and Protocol and Senior Advisor for Strategic Initiatives | DC150115 | 6/23/2015
COMMODITY FUTURES TRADING COMMISSION | Commodity Futures Trading Commission | Policy Advisor | CT150001 | 6/23/2015
CONSUMER PRODUCT SAFETY COMMISSION | Office of Commissioners | Staff Assistant | PS150005 | 6/25/2015
DEPARTMENT OF DEFENSE | Office of the Secretary | Confidential Assistant | DD150135 | 6/2/2015
| Office of Assistant Secretary of Defense (Public Affairs) | Speechwriter | DD150137 | 6/16/2015
| Washington Headquarters Services | Defense Fellow (3) | DD150138 | 6/16/2015
|  |  | DD150139 | 6/17/2015
|  |  | DD150143 | 6/29/2015
| Office of the Assistant Secretary of Defense (Legislative Affairs) | Special Assistant | DD150141 | 6/25/2015
| Office of the Assistant Secretary of Defense (International Security Affairs) | Special Assistant | DD150148 | 6/26/2015
DEPARTMENT OF EDUCATION | Office of the Secretary | Special Assistant | DB150089 | 6/1/2015
|  | Confidential Assistant | DB150095 | 6/12/2015
|  | Director of Scheduling and Advance | DB150100 | 6/29/2015
| Office of the Deputy Secretary | Deputy Chief of Staff | DB150090 | 6/1/2015
| Office of Legislation and Congressional Affairs | Confidential Assistant | DB150091 | 6/11/2015
| Office of Planning, Evaluation and Policy Development | Special Assistant | DB150092 | 6/12/2015
|  | Policy Advisor (2) | DB150103 | 6/30/2015
|  |  | DB150104 | 6/30/2015
| Office of Elementary and Secondary Education | Confidential Assistant | DB150093 | 6/12/2015
| Office for Civil Rights | Confidential Assistant | DB150094 | 6/12/2015
| Office of Postsecondary Education | Deputy Chief of Staff | DB150096 | 6/19/2015
| Office of Innovation and Improvement | Deputy Director of Science, Technology, Engineering and Mathematics Initiatives | DB150098 | 6/23/2015
|  | Confidential Assistant | DB150102 | 6/30/2015
| Office of Special Education and Rehabilitative Services | Special Assistant | DB150099 | 6/29/2015
| Office of Career Technical and Adult Education | Confidential Assistant | DB150101 | 6/29/2015
DEPARTMENT OF ENERGY | Office of Public Affairs | Director of Strategic Communications and Messaging | DE150086 | 6/2/2015
|  | Assistant Press Secretary | DE150095 | 6/25/2015
|  | Deputy Press Secretary and Advisor for Broadcast Media | DE150099 | 6/25/2015
| Under Secretary for Science | Senior Advisor | DE150085 | 6/12/2015
| Office of the Secretary | Special Assistant | DE150093 | 6/17/2015
ENVIRONMENTAL PROTECTION AGENCY | Office of the Associate Administrator for Policy | Deputy Associate Administrator for Policy | EP150043 | 6/29/2015
FEDERAL COMMUNICATIONS COMMISSION | Office of Legislative Affairs | Director, Office of Legislative Affairs | FC150010 | 6/24/2015
FEDERAL MEDIATION AND CONCILIATION SERVICE | Federal Mediation and Conciliation Service | Executive Assistant | FM150002 | 6/23/2015
GENERAL SERVICES ADMINISTRATION | Office of the Administrator | White House Liaison | GS150036 | 6/9/2015
|  | Senior Advisor (2) | GS150039 | 6/11/2015
|  |  | GS150043 | 6/25/2015
| Office of Administrative Services | Chief of Staff | GS150042 | 6/25/2015
DEPARTMENT OF HEALTH AND HUMAN SERVICES | Health Resources and Services Administration Office of the Administrator | Special Assistant (2) | DH150143 | 6/2/2015
|  |  | DH150142 | 6/4/2015
| Office of the Secretary | Confidential Assistant | DH150157 | 6/17/2015
| Office of Health Reform | Policy Analyst | DH150146 | 6/23/2015
| Office of Intergovernmental and External Affairs | Enrollment Coordinator | DH150160 | 6/30/2015
DEPARTMENT OF HOMELAND SECURITY | Office of the Secretary | Special Assistant | DM150181 | 6/18/2015
| United States Immigration and Customs Enforcement | Senior Advisor | DM150185 | 6/30/2015
DEPARTMENT OF HOUSING AND URBAN DEVELOPMENT | Office of the General Counsel | Chief of Staff/Senior Counsel | DU150061 | 6/4/2015
| Office of the Secretary | Senior Policy Advisor | DU150063 | 6/30/2015
DEPARTMENT OF THE INTERIOR | Office of Congressional and Legislative Affairs | Deputy Director for Congressional and Legislative Affairs | DI150026 | 6/15/2015
| Secretary's Immediate Office | Special Assistant | DI150099 | 6/19/2015
DEPARTMENT OF JUSTICE | Office of the Attorney General | Special Assistant and Scheduler | DJ150082 | 6/5/2015
|  | Deputy White House Liaison | DJ150090 | 6/26/2015
|  | Director of Scheduling and Advance | DJ150095 | 6/26/2015
| Office of Legislative Affairs | Attorney Advisor | DJ150088 | 6/25/2015
| Office of Legal Policy | Researcher | DJ150092 | 6/26/2015
| Office of Public Affairs | Chief Speechwriter | DJ150093 | 6/26/2015
DEPARTMENT OF LABOR | Office of the Secretary | Policy Advisor | DL150066 | 6/19/2015
| Office of Congressional and Intergovernmental Affairs | Legislative Officer | DL150067 | 6/19/2015
| Office of Public Affairs | Special Assistant | DL150071 | 6/25/2015
| Employment and Training Administration | Deputy Chief of Staff | DL150069 | 6/26/2015
NATIONAL TRANSPORTATION SAFETY BOARD | Office of Board Members | Special Assistant | TB150005 | 6/15/2015
OCCUPATIONAL SAFETY AND HEALTH REVIEW COMMISSION | Occupational Safety and Health Review Commission | Confidential Assistant | SH150004 | 6/1/2015
| Office of Commissioners | Counsel | SH150005 | 6/29/2015
OFFICE OF NATIONAL DRUG CONTROL POLICY | Office of Legislative Affairs | Program Support Specialist (Correspondence) | QQ150003 | 6/11/2015
OFFICIAL RESIDENCE OF THE VICE PRESIDENT | Official Residence of the Vice President | Deputy Residence Manager | RV150002 | 6/30/2015
SECURITIES AND EXCHANGE COMMISSION | Office of the Chairman | Writer-Editor | SE150004 | 6/2/2015
SMALL BUSINESS ADMINISTRATION | Office of Faith-Based and Community Initiatives | Assistant Administrator for Public Engagement | SB150036 | 6/4/2015
| Office of Intergovernmental Affairs | Associate Administrator for Intergovernmental Affairs | SB150037 | 6/12/2015
| Office of Communications and Public Liaison | Speechwriter | SB150038 | 6/26/2015
| Office of Congressional and Legislative Affairs | Deputy Associate Administrator for Congressional and Legislative Affairs | SB150040 | 6/26/2015
DEPARTMENT OF STATE | Office of the Counselor | Special Assistant | DS150080 | 6/2/2015
| Office of the Under Secretary for Economic Growth, Energy, and the Environment | Senior Advisor | DS150083 | 6/5/2015
| Office of the Secretary | Staff Assistant (2) | DS150090 | 6/5/2015
|  |  | DS150095 | 6/25/2015
| Bureau of Democracy, Human Rights and Labor | Deputy Assistant Secretary | DS150096 | 6/12/2015
| Bureau of Economic and Business Affairs | Special Assistant | DS150077 | 6/15/2015
| Office of the Under Secretary for Arms Control and International Security Affairs | Senior Advisor | DS150098 | 6/25/2015
| Bureau of Legislative Affairs | Legislative Management Officer | DS150099 | 6/25/2015
DEPARTMENT OF THE TREASURY | Office of the Assistant Secretary (Economic Policy) | Special Assistant | DY150100 | 6/2/2015
| Office of the Assistant Secretary (Public Affairs) | Counselor | DY150101 | 6/2/2015
|  | Spokesperson | DY150111 | 6/26/2015
| Office of the Under Secretary for International Affairs | Senior Advisor | DY150102 | 6/4/2015
| Office of the Secretary | Director of Scheduling, Advance and Administration | DY150103 | 6/11/2015
UNITED STATES INTERNATIONAL TRADE COMMISSION | Office of Commissioner Schmidtlein | Staff Assistant (Confidential) Legal | TC150002 | 6/11/2015
DEPARTMENT OF VETERANS AFFAIRS | Office of the Assistant Secretary for Congressional and Legislative Affairs | Special Assistant | DV150042 | 6/12/2015

The following Schedule C appointing authorities were revoked during June 2015.

Agency name | Organization name | Position title | Authorization No. | Vacate date
DEPARTMENT OF AGRICULTURE | Office of Communications | Deputy Director | DA150041 | 6/13/2015
DEPARTMENT OF COMMERCE | Office of the Deputy Secretary | Deputy Chief Data Officer | DC150020 | 6/12/2015
| Office of Assistant Secretary for Industry and Analysis | Deputy Director, Office of Advisory Committees, Industry and Analysis | DC150024 | 6/13/2015
|  | Senior Advisor | DC150111 | 6/26/2015
| Office of Public Affairs | Deputy Press Secretary | DC120042 | 6/19/2015
| Office of Chief of Staff | Director of Advance and Protocol | DC150043 | 6/22/2015
| Office of Under Secretary | Senior Advisor to the Under Secretary for Oceans and Atmosphere | DC140151 | 6/27/2015
| Office of Deputy Assistant Secretary for Legislative and Intergovernmental Affairs | Associate Director for Oversight | DC150003 | 6/27/2015
COMMODITY FUTURES TRADING COMMISSION | Office of the Chairperson | Executive Assistant | CT140002 | 6/27/2015
DEPARTMENT OF EDUCATION | Office of the Deputy Secretary | Special Assistant | DB140051 | 6/1/2015
| Office of Planning, Evaluation and Policy Development | Special Assistant | DB130064 | 6/13/2015
| Office of Legislation and Congressional Affairs | Confidential Assistant | DB140010 | 6/13/2015
DEPARTMENT OF ENERGY | Office of Science | Special Advisor | DE130041 | 6/13/2015
GENERAL SERVICES ADMINISTRATION | Office of the Administrator | Special Assistant to the Administrator | GS130004 | 6/13/2015
DEPARTMENT OF HEALTH AND HUMAN SERVICES | Office of the Assistant Secretary for Health | Chief of Staff | DH150102 | 6/9/2015
| Office of the Assistant Secretary for Public Affairs | Confidential Assistant | DH140103 | 6/19/2015
DEPARTMENT OF HOMELAND SECURITY | Office of the General Counsel | Attorney-Advisor | DM140194 | 6/12/2015
| Office of the Secretary | Special Assistant to the Senior Counselor | DM140126 | 6/27/2015
DEPARTMENT OF HOUSING AND URBAN DEVELOPMENT | Office of Congressional and Intergovernmental Relations | Congressional Relations Officer | DU120011 | 6/27/2015
| Office of Fair Housing and Equal Opportunity | Chief of Staff/Senior Advisor | DU150003 | 6/29/2015
DEPARTMENT OF THE INTERIOR | Bureau of Reclamation | Advisor | DI150007 | 6/12/2015
DEPARTMENT OF JUSTICE | Office of the Attorney General | Special Assistant | DJ140088 | 6/27/2015
| Office of the Associate Attorney General | Senior Counsel (2) | DJ140129 | 6/19/2015
|  |  | DJ140130 | 6/27/2015
DEPARTMENT OF LABOR | Office of Disability Employment Policy | Chief of Staff | DL130024 | 6/4/2015
DEPARTMENT OF STATE | Bureau of Economic and Business Affairs | Special Assistant | DS110131 | 6/13/2015
| Office of the Secretary | Staff Assistant | DS130100 | 6/13/2015
| Bureau of East Asian and Pacific Affairs | Staff Assistant | DS140025 | 6/27/2015
| Bureau of Legislative Affairs | Legislative Management Officer | DS140006 | 6/27/2015
| Bureau of Political and Military Affairs | Staff Assistant | DS150002 | 6/27/2015
DEPARTMENT OF THE TREASURY | Office of the Assistant Secretary (Public Affairs) | Senior Advisor | DY140082 | 6/1/2015

Authority: 5 U.S.C. 3301 and 3302; E.O. 10577, 3 CFR, 1954-1958 Comp., p. 218.

U.S. Office of Personnel Management.
Beth F. Cobert,
Acting Director.

[FR Doc. 2015-25897 Filed 10-9-15; 8:45 am]

BILLING CODE P